DEPARTMENT OF ENERGY

Federal Energy Regulatory Commission

[Docket No. RP07-107-000]

Pepco Energy Services, Inc., Complainant v. Columbia Gas Transmission Corporation, Respondent; Notice of Complaint

December 14, 2006.

Take notice that on December 12, 2006, Pepco Energy Services, Inc.(Pepco) filed a formal complaint against Columbia Gas Transmission Corporation pursuant to sections 4 and 5 of the Natural Gas Act, and 18 CFR 385.206 and 385.212, alleging that Columbia's capacity auction held on November 8, 2006, was unjust and unreasonable and unduly discriminatory against Pepco. Pepco states that there were serious flaws in Columbia's Navigator system during the auction.

Pepco certifies that copies of the complaint were served on the contact for Columbia Gas Transmission Corporation and UGI Utilities, Inc.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on December 27, 2006.

Magalie R. Salas,
Secretary.

[FR Doc. E6-21703 Filed 12-19-06; 8:45 am]

BILLING CODE 6717-01-P